DEPARTMENT OF INTERIOR

National Park Service

[NPS-SERO-CONG-19127; PPSESEROC3, PMP00UP05.YP0000]

Assessment of Eligible and Ineligible Lands for Consideration as Wilderness Areas, Congaree National Park, South Carolina

AGENCY: National Park Service, Interior.

ACTION: Notice of intent.

SUMMARY: The NPS intends to assess certain lands within the authorized boundary of Congaree National Park for wilderness eligibility.

DATES: The eligibility assessment will begin on November 2, 2015 and is anticipated to be completed by January 29, 2016.

FOR FURTHER INFORMATION CONTACT: Suggestions, comments, and requests for further information should be directed to Congaree National Park Integrated Resources Program Manager Liz Struhar by phone at 803-647-3968, email Liz_Struhar@nps.gov, or by mail at Congaree National Park, 100 National Park Road, Hopkins, South Carolina 29061.

SUPPLEMENTARY INFORMATION: Pursuant to the Wilderness Act of 1964, and in accordance with National Park Service (NPS) Management Policies (2006), Section 6.2.1, the NPS intends to assess certain lands within the authorized boundary of Congaree National Park for wilderness eligibility. The lands to be assessed are approximately 4,576 acres added to the park boundary since 2003 by virtue of Section 148 of Public Law 108-108 (November 10, 2003) and approximately 100 acres under consideration for addition to the park via NPS' minor boundary modification authority (54 U.S.C. 100506 (c)(5)). A determination of eligibility and subsequent future actions will be announced in the Federal Register upon completion of the assessment.

Dated: December 28, 2015.
Stan Austin,
Regional Director, Southeast Region.

[FR Doc. 2016-00804 Filed 1-15-16; 8:45 am]

BILLING CODE 4310-JD-P